DEPARTMENT OF ENERGY

Federal Energy Regulatory Commission

[Docket No. PR04-12-000]

National Fuel Gas Distribution Corporation; Notice of Petition for Rate Filing

May 21, 2004.

Take notice that on May 3, 2004, National Fuel Gas Distribution Corporation (Distribution) filed an application pursuant to 18 CFR 284.224(e)(2) for approval to amend the transportation rate under its Order No. 63 Certificate.

Distribution states that it proposes to update its maximum transportation rate based upon current costs that most closely reflect the relevant facilities and services. Distribution further states that it will also seek to implement a minimum rate to permit it to discount below the maximum rate on a non-discriminatory basis if necessary to meet market conditions.

Any person desiring to participate in this rate proceeding must file a motion to intervene or protest with the Federal Energy Regulatory Commission, 888 First Street, NE., Washington DC 20426, in accordance with sections 385.214 or 385.211 of the Commission's rules and regulations. All such motions or protests must be filed with the Secretary of the Commission on or before the date as indicated below. Protests will be considered by the Commission in determining the appropriate action to be taken, but will not serve to make protestants parties to the proceedings. Any person wishing to become a party must file a motion to intervene. This petition for rate approval is available for review at the Commission in the Public Reference Room or may be viewed on the Commission's Web site at http://www.ferc.gov using the “FERRIS” link. Enter the docket number excluding the last three digits in the docket number field to access the document. For assistant, call (202) 502-8222 or for TTY, (202) 502-8659. Comments, protests and interventions may be filed electronically via the Internet in lieu of paper. The Commission strongly encourages electronic filings. See 18 CFR 385.2001(1)(iii) and the instructions on the Commission's Web site under the “e-Filing” link.

Comment Date: June 7, 2004.

Magalie R. Salas,
Secretary.

[FR Doc. E4-1237 Filed 5-28-04; 8:45 am]

BILLING CODE 6717-01-P